DEPARTMENT OF TRANSPORTATION

Federal Aviation Administration

14 CFR Part 39

[Docket No. 2000-NM-242-AD; Amendment 39-12323; AD 2001-14-12]

RIN 2120-AA64

Airworthiness Directives; Boeing Model 737-700IGW Series Airplanes Modified by Supplemental Type Certificate ST09100AC-D, ST09104AC-D, ST09105AC-D, or ST09106AC-D

AGENCY: Federal Aviation Administration, DOT.

ACTION: Final rule.

SUMMARY: This amendment adopts a new airworthiness directive (AD), applicable to all Boeing Model 737-700IGW series airplanes modified by Supplemental Type Certificate (STC) ST09100AC-D, ST09104AC-D, ST09105AC-D, or ST09106AC-D. This AD requires modifying the passenger entertainment system (PES) installed by those STC's and revising the Airplane Flight Manual. This action is necessary to ensure that the flight crew is able to remove electrical power from the PES when necessary and is advised of appropriate procedures for such action. Inability to remove power from the PES during a non-normal or emergency situation could result in inability to control smoke or fumes in the airplane flight deck or cabin. This action is intended to address the identified unsafe condition.

DATES: Effective August 16, 2001.

The incorporation by reference of certain publications listed in the regulations is approved by the Director of the Federal Register as of August 16, 2001.

ADDRESSES: The service information referenced in this AD may be obtained from Raytheon Systems Company, Intelligence Information and Aircraft Integration Systems, 7500 Maehre Road, Waco, Texas 76705. This information may be examined at the Federal Aviation Administration (FAA), Transport Airplane Directorate, Rules Docket, 1601 Lind Avenue, SW., Renton, Washington; at the FAA, Fort Worth Airplane Certification Office, 2601 Meacham Blvd., Fort Worth, Texas; or at the Office of the Federal Register, 800 North Capitol Street, NW., suite 700, Washington, DC.

FOR FURTHER INFORMATION CONTACT: Ingrid Knox, Aerospace Engineer, ASW-150, FAA, Fort Worth Airplane Certification Office, 2601 Meacham Blvd., Fort Worth, Texas 76137-4298; telephone (817) 222-5139; fax (817) 222-5960.

SUPPLEMENTARY INFORMATION: A proposal to amend part 39 of the Federal Aviation Regulations (14 CFR part 39) to include an airworthiness directive (AD) that is applicable to all Boeing Model 737-700IGW series airplanes modified by Supplemental Type Certificate (STC) ST09100AC-D, ST09104AC-D, ST09105AC-D, or ST09106AC-D, was published in the Federal Register on March 2, 2001 (66 FR 13210). That action proposed to require modifying the passenger entertainment system installed by those STC's and revising the Airplane Flight Manual (AFM).

Comments

Interested persons have been afforded an opportunity to participate in the making of this amendment. No comments were submitted in response to the proposal or the FAA's determination of the cost to the public.

Conclusion

After careful review of the available data, the FAA has determined that air safety and the public interest require the adoption of the rule as proposed.

Cost Impact

There are approximately 4 Model 737-700IGW series airplanes of the affected design in the worldwide fleet. The FAA estimates that 2 airplanes of U.S. registry will be affected by this AD.

It will take approximately 141 work hours per airplane to accomplish the required modification, at an average labor rate of $60 per work hour. Required parts will cost approximately $95,968 per airplane. Based on these figures, the cost impact of the modification in this AD on U.S. operators is estimated to be $208,856, or $104,428 per airplane.

It will take approximately 1 work hour per airplane to accomplish the required AFM revision, at an average labor rate of $60 per work hour. Based on these figures, the cost impact of the AFM revision in this AD on U.S. operators is estimated to be $120, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-12 Boeing: Amendment 39-12323. Docket 2000-NM-242-AD.

Applicability: Model 737-700IGW series airplanes modified by Supplemental Type Certificate (STC) ST09100AC-D, ST09104AC-D, ST09105AC-D, or ST09106AC-D; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To ensure that the flight crew is able to remove electrical power from the passenger entertainment system (PES) when necessary and is advised of appropriate procedures for such action, accomplish the following:

Modification and Airplane Flight Manual Revision

(a) Within 18 months after the effective date of this AD, do paragraphs (a)(1) and (a)(2) of this AD.

(1) Modify the PES by installing a power switch and a load-shed circuit breaker as well as associated relays and wiring, in accordance with Raytheon Service Bulletin 737IGW-24-1, dated August 11, 2000.

(2) Revise the Non-Normal Procedures Section of the FAA-approved Airplane Flight Manual (AFM) to advise the flight crew on using the power switch installed by paragraph (a)(1) to remove power from the PES in the event of an emergency related to smoke or fire, in accordance with Raytheon Airplane Flight Manual Supplement B737-700 IGW, dated October 16, 2000, which is supplied with Raytheon Service Bulletin 737IGW-24-1, dated August 11, 2000.

Spares

(b) As of the effective date of this AD, no person shall install a PES in accordance with STC ST09100AC-D, ST09104AC-D, ST09105AC-D, or ST09106AC-D on any airplane, unless it is modified and the AFM is revised in accordance with this AD.

Alternative Methods of Compliance

(c) An alternative method of compliance or adjustment of the compliance time that provides an acceptable level of safety may be used if approved by the Manager, Fort Worth Airplane Certification Office (ACO), FAA. Operators shall submit their requests through an appropriate FAA Principal Maintenance Inspector, who may add comments and then send it to the Manager, Fort Worth ACO.

Note 2: Information concerning the existence of approved alternative methods of compliance with this AD, if any, may be obtained from the Fort Worth ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Raytheon Service Bulletin 737IGW-24-1, dated August 11, 2000; and Raytheon Airplane Flight Manual Supplement B737-700 IGW, dated October 16, 2000. Raytheon Airplane Flight Manual Supplement B737-700 IGW contains the following list of effective pages:

Page No. | Revision level shown on page | Date shown on page
List of Effective Pages: Page 1 | Original | October 16, 2000.

This incorporation by reference was approved by the Director of the Federal Register in accordance with 5 U.S.C. 552(a) and 1 CFR part 51. Copies may be obtained from Raytheon Systems Company, Intelligence Information and Aircraft Integration Systems, 7500 Maehre Road, Waco, Texas 76705. Copies may be inspected at the FAA, Transport Airplane Directorate, 1601 Lind Avenue, SW., Renton, Washington; or at FAA, Fort Worth Airplane Certification Office, 2601 Meacham Blvd., Fort Worth, Texas; or at the Office of the Federal Register, 800 North Capitol Street, NW., suite 700, Washington, DC.

Effective Date

(f) This amendment becomes effective on August 16, 2001.

Issued in Renton, Washington, on July 3, 2001.
Vi L. Lipski,
Manager, Transport Airplane Directorate, Aircraft Certification Service.

[FR Doc. 01-17160 Filed 7-11-01; 8:45 am]

BILLING CODE 4910-13-U